DEPARTMENT OF COMMERCE

Bureau of Industry and Security

15 CFR Part 744

[Docket No. 200407-0100]

RIN 0694-AI07

Addition of Entities to the Entity List, Revision of Certain Entries on the Entity List

AGENCY: Bureau of Industry and Security, Commerce.

ACTION: Final rule.

SUMMARY: In this rule, the Bureau of Industry and Security (BIS) amends the Export Administration Regulations (EAR) by adding twenty-four entities, under twenty-five entries, to the Entity List. These twenty-four entities have been determined by the U.S. Government to be acting contrary to the national security or foreign policy interests of the United States. The entities are located under the destination of the People's Republic of China (China), Hong Kong and the United Kingdom (U.K.). This rule also modifies three existing entries on the Entity List under the destination of China.

DATES: This rule is effective June 5, 2020.

FOR FURTHER INFORMATION CONTACT: Chair, End-User Review Committee, Office of the Assistant Secretary for Export Administration, Bureau of Industry and Security, Department of Commerce, Phone: (202) 482-5991, Fax: (202) 482-3911, Email: ERC@bis.doc.gov.

SUPPLEMENTARY INFORMATION:

Background

The Entity List (Supplement No. 4 to part 744 of the Export Administration Regulations (EAR)) identifies entities for which there is reasonable cause to believe, based on specific and articulable facts, that the entities have been involved, are involved, or pose a significant risk of being or becoming involved in activities contrary to the national security or foreign policy interests of the United States. The EAR (15 CFR parts 730-774) impose additional license requirements on, and limit the availability of most license exceptions for, exports, reexports, and transfers (in-country) to listed entities. The license review policy for each listed entity is identified in the “License review policy” column on the Entity List, and the impact on the availability of license exceptions is described in the relevant Federal Register notice adding entities to the Entity List. BIS places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and all decisions to remove or modify an entry by unanimous vote.

ERC Entity List Decisions

Under § 744.11(b) (Criteria for revising the Entity List) of the EAR, entities for which there is reasonable cause to believe, based on specific and articulable facts, that the entities have been involved, are involved, or pose a significant risk of being or becoming involved in activities that are contrary to the national security or foreign policy interests of the United States, and those acting on behalf of such entities, may be added to the Entity List. Paragraphs (b)(1) through (b)(5) of § 744.11 provide an illustrative list of activities that could be considered contrary to the national security or foreign policy interests of the United States.

This rule implements the decision of the ERC to add twenty-four entities, under a total of twenty-five entries (one entity is identified in two destinations) to the Entity List. The twenty-four entities being added are located in China, Hong Kong and the U.K. The ERC made the decision to add each of the twenty-four entities described below under the standard set forth in § 744.11(b) of the EAR.

The ERC determined to add Beijing Cloudmind Technology Co., Ltd., Kunhai (Yanjiao) Innovation Research Institute, and Qihoo 360 Technology Company to the Entity List under the destination of China; to add Cloudminds (Hong Kong) Limited under the destination of Hong Kong; and to add Cloudminds Inc. and Qihoo 360 Technology Co. Ltd. under the destination of the U.K. These six entities are being added to the Entity List because the ERC determined there is reasonable cause to believe that these entities pose a significant risk of becoming involved in activities—the procurement of commodities and technologies for military end-use in China—that are contrary to the national security interests of the United States.

The ERC determined to add Beijing Computational Science Research Center, Beijing Jincheng Huanyu Electronics Co., Ltd., Center for High Pressure Science and Technology Advanced Research, Chengdu Fine Optical Engineering Research Center, China Jiuyuan Trading Corporation, Peac Institute of Multiscale Science, Sichuan Dingcheng Material Trade Co., Ltd., Sichuan Haitian New Technology Group Co. Ltd., Sichuan Zhonghe Import and Export Trade Co., Ltd., and Skyeye Laser Technology Limited to the Entity List under the destination of China on the basis of their procurement of U.S.-origin items for activities contrary to the national security or foreign policy interests of the United States. These ten entities are owned by, operated by, or directly affiliated with the Chinese Academy of Engineering Physics (CAEP), which is the technology complex responsible for the research, development and testing of China's nuclear weapons and has been on the Entity List under the destination of China since June 30, 1997 (62 FR 35334). (As discussed further below, the existing entry for CAEP is being modified by this rule to add an address and change the license review policy.)

The ERC determined to add Harbin Engineering University to the Entity List under the destination of China, for acquiring and attempting to acquire U.S.-origin items in support of programs for the People's Liberation Army. This activity is contrary to national security and foreign policy interests under § 744.11(b)(3) and (5) of the EAR.

The ERC determined to add Harbin Institute of Technology, Harbin Chuangyue Technology Co., Ltd., and Harbin Yun Li Da Technology and Development Co., Ltd. to the Entity List under the destination of China, for acquiring and attempting to acquire U.S.-origin items in support of programs for the People's Liberation Army. Specifically, Harbin Institute of Technology has sought to use U.S. technology for Chinese missile programs. This activity is contrary to national security and foreign policy interests under § 744.11(b)(3) of the EAR.

The ERC determined to add to the Entity List Shanghai Nova Instruments Co., Ltd., and Zhu Jiejin under the destination of China, K Logistics (China) Limited under the destination of Hong Kong, and JCN (HK) Technology Co. Ltd. under the destinations of China and Hong Kong. The ERC determined that Shanghai Nova Instruments Co., Ltd., K Logistics (China) Limited, and Zhu Jiejin have been involved in the procurement of items subject to the EAR for possible use in missile and unmanned aerial vehicle applications in China without the licenses required pursuant to §§ 744.3 and 744.21 of the EAR. JCN (HK) Technology Co. Ltd. is co-located with Reekay Technologies, which was added to the Entity List on November 12, 2015 (80 FR 69856) for supplying U.S.-origin items for the Iranian defense industry.

Pursuant to § 744.11(b), the ERC determined that the conduct of the above-described twenty-four entities raises sufficient concerns that prior review of exports, reexports, or transfers (in-country) of all items subject to the EAR involving these entities, and the possible imposition of license conditions or license denials on shipments to the entities, will enhance BIS's ability to prevent violations of the EAR. For the twenty-four entities added to the Entity List in this final rule, BIS imposes a license requirement for all items subject to the EAR and a license review policy of a presumption of denial for all of these entities. In addition, no license exceptions are available for exports, reexports, or transfers (in-country) to the persons being added to the Entity List in this rule. The acronym “a.k.a.” (also known as) is used in entries on the Entity List to identify aliases, thereby assisting exporters, reexporters, and transferors in identifying entities on the Entity List.

For the reasons described above, this final rule adds the following twenty-four entities, under a total of twenty-five entities, to the Entity List:

China

• Beijing Cloudmind Technology Co., Ltd.;

• Beijing Computational Science Research Center;

• Beijing Jincheng Huanyu Electronics Co., Ltd.;

• Center for High Pressure Science and Technology Advanced Research;

• Chengdu Fine Optical Engineering Research Center;

• China Jiuyuan Trading Corporation;

• Harbin Chuangyue Technology Co. Ltd.;

• Harbin Engineering University;

• Harbin Institute of Technology;

• Harbin Yun Li Da Technology and Development Co., Ltd.;

• JCN (HK) Technology Co., Ltd.;

• Kunhai (Yanjiao) Innovation Research Institute;

• Peac Institute of Multiscale Science;

• Qihoo 360 Technology Company;

• Shanghai Nova Instruments Co., Ltd.;

• Sichuan Dingcheng Material Trade Co., Ltd.;

• Sichuan Haitian New Technology Group Co., Ltd.;

• Sichuan Zhonghe Import and Export Trade Co., Ltd.;

• Skyeye Laser Technology Limited; and

• Zhu Jiejin.

Hong Kong

• Cloudminds (Hong Kong) Limited;

• JCN (HK) Technology Co., Ltd.; and

• K Logistics (China) Limited.

United Kingdom

• Cloudminds Inc.; and

• Qihoo 360 Technology Co. Ltd.

Modifications to the Entity List

This final rule implements the decision of the ERC to modify three existing entries under the destination of China as follows:

This rule implements the decision of the ERC to modify the existing entry for China Electronics Technology Group Corporation 38th Research Institute (CETC 38), which was first added to the Entity List under the destination of China on August 1, 2018 (83 FR 37427). BIS is modifying the existing entry by removing one of the addresses “418 Guilin Road, Shanghai, China” included for this entry.

This rule implements the decision of the ERC to modify the existing entry for China Electronics Technology Group Corporation 55th Research Institute (CETC 55), which was first added to the Entity List under the destination of China on August 1, 2018 (83 FR 37427). BIS is modifying the existing entry by editing it to identify “NEDITEK,” currently listed as the fourth alias for the entry, as a third subordinate institution under this same entry. This rule also adds an additional address, “2nd Floor, B4 Block, Jiulonghui Park, No. 19 Suyuan Avenue, Nanjing, China,” for this entry.

This rule implements the decision of the ERC to modify the existing entry for the Chinese Academy of Engineering Physics, which was first added to the Entity List under the destination of China on June 30, 1997 (62 FR 35334). BIS is modifying the existing entry by adding three additional addresses, “64 Mianshan Road, Mianyang, Sichuan, China; and 6 Huayuan Road, Haidian District, Beijing, China; and 1 Fenghao East Road, Haidian District, Beijing, China.” In addition, BIS is modifying an existing address for Chinese Academy of Engineering Physics, to correct a zip code from “6100003” to “610003.” This rule also implements the decision of the ERC to modify the license review policy for this entry from case-by-case to presumption of denial. Lastly, this rule adds “(See § 744.11 of the EAR).” to clarify the license requirement for this entry.

Savings Clause

Shipments of items removed from eligibility for a License Exception or export or reexport without a license (NLR) as a result of this regulatory action that were en route aboard a carrier to a port of export or reexport, on June 5, 2020, pursuant to actual orders for export or reexport to a foreign destination, may proceed to that destination under the previous eligibility for a License Exception or export or reexport without a license (NLR). Shipments of items exported, reexported or transferred (in-country under the authority of a BIS-issued license that were en route aboard a carrier to a port of export or reexport, on June 5, 2020, pursuant to actual orders for export or reexport to a foreign destination, may proceed to that destination under the authorization of the issued license.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule. As set forth in Section 1768 of ECRA, all delegations, rules, regulations, orders, determinations, licenses, or other forms of administrative action that were made, issued, conducted, or allowed to become effective under the Export Administration Act of 1979 (50 U.S.C. 4601 et seq.) (as in effect on August 12, 2018, and as continued in effect pursuant to the International Emergency Economic Powers Act (50 U.S.C. 1701 et seq.)) or under the Export Administration Regulations, and were in effect as of August 13, 2018, shall continue in effect according to their terms until modified, superseded, set aside, or revoked under the authority of ECRA.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866. This rule is not an Executive Order 13771 regulatory action because this rule is not significant under Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and carries a burden estimate of 42.5 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. Pursuant to section 1762 of the Export Control Reform Act of 2018 (50 U.S.C. 4801-4852), which was included in the John S. McCain National Defense Authorization Act for Fiscal Year 2019, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. 4801-4852; 50 U.S.C. 4601 et seq.; 50 U.S.C. 1701 et seq.; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; E.O. 13637, 78 FR 16129, 3 CFR, 2014 Comp., p. 223; Notice of November 12, 2019, 84 FR 61817 (November 13, 2019).

2. Supplement No. 4 to part 744 is amended:

a. Under CHINA, PEOPLE'S REPUBLIC OF,

i. By adding in alphabetical order entries for “Beijing Cloudmind Technology Co., Ltd.,” “Beijing Computational Science Research Center,” “Beijing Jincheng Huanyu Electronics Co., Ltd.,” “Center for High Pressure Science and Technology Advanced Research,” “Chengdu Fine Optical Engineering Research Center,” “China Jiuyuan Trading Corporation,” “Harbin Chuangyue Technology Co. Ltd.,” “Harbin Engineering University,” “Harbin Institute of Technology,” “Harbin Yun Li Da Technology and Development Co., Ltd.,” “JCN (HK) Technology Co., Ltd.,” “Kunhai (Yanjiao) Innovation Research Institute,” “Peac Institute of Multiscale Science,” “Qihoo 360 Technology Company,” “Shanghai Nova Instruments Co., Ltd.,” “Sichuan Dingcheng Material Trade Co., Ltd.,” “Sichuan Haitian New Technology Group Co., Ltd.,” “Sichuan Zhonghe Import and Export Trade Co., Ltd,” “Skyeye Laser Technology Limited,” and “Zhu Jiejin;”

ii. By revising the entries for “China Electronics Technology Group Corporation 38th Research Institute (CETC 38),” “China Electronics Technology Group Corporation 55th Research Institute (CETC55)” and “Chinese Academy of Engineering Physics”;

b. Under HONG KONG, by adding in alphabetical order entries for “Cloudminds (Hong Kong) Limited,” “JCN (HK) Technology Co., Ltd.,” and “K Logistics (China) Limited”; and

c. Under UNITED KINGDOM, by adding in alphabetical order entries for “Cloudminds Inc.,” and “Qihoo 360 Technology Co. Ltd.”

The additions and revisions read as follows:

Supplement No. 4 to Part 744—Entity List

Country | Entity | License requirement | License review policy | Federal Register citation
* * * * * * *
CHINA, PEOPLE'S REPUBLIC OF | * * * * * *
| Beijing Cloudmind Technology Co., Ltd., a.k.a., the following two aliases: —Cloudminds Technologies Co., Ltd.; and —Daxie Technology. Room 601-602, 4A Block, Baiziwan, Chaoyang District, Beijing 100022 China; and Room 220, No. 5, Jiaodao Da St., Fangshan District, Beijing, China; and 33/F, Unit 8, Wanjing Soho, Chaoyang District, Beijing, China; and No. 10 Wangjing Street, Wangjing SOHO Tower 2, Block C, Room 1506, Chaoyang District, Beijing, 100096 China; and No. 88 Nongda South Road, Wanlin Building, 2/F, Haidian District, Beijing 100022 China. | For all items subject to the EAR. (See § 744.11 of the EAR). | Presumption of denial. | 85 FR [INSERT FR PAGE NUMBER 6/5/20].
| Beijing Computational Science Research Center, a.k.a., the following three aliases: —BCSRC; —Beijing Computing Science Research Center; and —CSRC. Bldg. 9 East Zone, ZPark II No. 10 East Xibeiwang Road, Beijing, China; and Building 9, East District, Zhongguancun Software Park, No. 10, Northwest Wangdong Road, Haidian District, Beijing, China. | For all items subject to the EAR. (See § 744.11 of the EAR). | Presumption of denial. | 85 FR [INSERT FR PAGE NUMBER 6/5/20].
| * * * * * *
| Beijing Jincheng Huanyu Electronics Co., Ltd., Room 303, Building 7, No. 69, North Third Ring Road, Haidian District, Beijing, China; and No. 64 Mianshan Road, Mianyang City, Sichuan, China; and No. 11 Jindu Section Airport Road, Chengdu, China; and 302, 3rd Floor, Building 7, No 13 Building, Huayuan Road, Haidian District, Beijing, China; and Rm 7-302, No. Jia 13, Huayuan Road, Haidian, China. | For all items subject to the EAR. (See § 744.11 of the EAR). | Presumption of denial. | 85 FR [INSERT FR PAGE NUMBER 6/5/20].
| * * * * * *
| Center for High Pressure Science and Technology Advanced Research, a.k.a., the following two aliases: —HPSTAR; and; —Beijing High Voltage Science Research Center. No. 1690 Cailun Rd. Shanghai, China; and No. 10, Northeast Wangxi Road, Haidian District, Beijing, China; and 3rd Floor, Dongrong Building, No. 2699 Qianjin Street, High-Tech Development Zone, Changchun City, Jilin Province, China; and Bldg. 8 East Zone, ZPark II No. 10, East Xibeiwang Road, Beijing, China. | For all items subject to the EAR. (See § 744.11 of the EAR). | Presumption of denial. | 85 FR [INSERT FR PAGE NUMBER 6/5/20].
| * * * * * *
| Chengdu Fine Optical Engineering Research Center, No 3 Keyuan, 1st Road, Chengdu Hi-Tech Zone, Chengdu, China. | For all items subject to the EAR. (See § 744.11 of the EAR). | Presumption of denial. | 85 FR [INSERT FR PAGE NUMBER 6/5/20].
| * * * * * *
| China Electronics Technology Group Corporation 38th Research Institute (CETC 38), a.k.a., the following seven aliases, and seven subordinate institutions: —Hefei Institute of Electronic Engineering; —Southwest China Research Institute of Radar Technology; —East China Research Institute of Electronic Engineering; —ECRIEE; —No 38 Research Institute; —Research Institute 38; and —CETC Research Institute 38. | For all items subject to the EAR. (See § 744.11 of the EAR). | Presumption of denial. | 83 FR 37427, 8/1/18. 85 FR [INSERT FR PAGE NUMBER 6/5/20].
| Subordinate institution Anhui Sun-Create Electronics.
| Subordinate institution Anhui Bowei Chang An Electronics.
| Subordinate institution ECU Electronic Industrial.
| Subordinate institution Hefei ECU-TAMURA Electric.
| Subordinate institution Anhui Bowei Guangcheng Information Technology.
| Subordinate institution Anhui Bowei Ruida Electronics Technology.
| Subordinate institution Brainware Terahertz. The following addresses apply to the entity and to the seven subordinate institutions: 199 Xiangzhang Ave., Hefei, Anhui, China; and 19 He Huan Lu, Hefei, China; and 19 Hehuan Road, Hefei, China; and 260 Ji Xi Road, Hefei, China; and 88 Pihe Road, Hefei, China; and Forward Road, Economics Development Zone of Luan, Luan, Anhui, China.
| China Electronics Technology Group Corporation 55th Research Institute (CETC55), a.k.a., the following three aliases, and three subordinate institutions: —Nanjing Electronic Devices Institute; —CETC Research Institute 55; and —NEDI. | For all items subject to the EAR. (See § 744.11 of the EAR). | Presumption of denial. | 83 FR 37427, 8/1/18. 85 FR [INSERT FR PAGE NUMBER 6/5/20].
| 524 Zhongzhan East Road, Nanjing, Jiangsu, China; and 524 East Zhongshan Road, Nanjing, Jiangsu, China; and 523 East Zhongshang Road, Nanjing, Jiangsu, China; and 166 Middle Zhenghang Road, Nanjing, China; and 166 Zhengfang Mid Road, Nanjing, China; and 166 Zhengfang Mid Road, Nanjing, China; and Huaxia Sci and Tech Park Hi-Tech Development, Nanjing, China; and RM 2105 Huaxia Bldg., No 81 Zhongshan Rd., Nanjing, China; and 8 Xingwen Road, Economic and Tech, Nanjing, China.
| Subordinate institution Nanjing Guosheng Electronics, 8 Xingwen Road, Economic and Tech, Nanjing, China; and 166 Middle Zhenghang Road, Nanjing, China; and 166 Zhengfang Mid Road, Nanjing, China; and 166 Zhengfand Mid Road, Nanjing, China; and 168 Zhengfand Mid Road, Nanjing, China; and 165 Zhangfang Mid-Road, Nanjing, China; and 414 South Zhong Shan Road, Nanjing, Jiangsu, China; and
| Subordinate institution Nanjing Guobo Electronic, 166 Zhengfang Mid Road, Nanjing, China.
| Subordinate institution NEDITEK, a.k.a, the following three aliases: —NEDI Technology; —NTESY; and —Nanjing Nade Technology.
| 2nd Floor, B4 Block, Jiulonghui Park, No. 19 Suyuan Avenue, Nanjing, China; and 524 Zhongzhan East Road, Nanjing, Jiangsu, China; and 524 East Zhongshan Road, Nanjing, Jiangsu, China; and 523 East Zhongshang Road, Nanjing, Jiangsu, China; and 166 Middle Zhenghang Road, Nanjing, China; and 166 Zhengfang Mid Road, Nanjing, China; and 166 Zhengfang Mid Road, Nanjing, China; and Huaxia Sci and Tech Park Hi-Tech Development, Nanjing, China; and RM 2105 Huaxia Bldg., No 81 Zhongshan Rd., Nanjing, China; and 8 Xingwen Road, Economic and Tech, Nanjing, China.
| * * * * * *
| China Jiuyuan Trading Corporation, a.k.a., the following three aliases: —China Long Term Material Trading Company; —China Long-Standing Material Trading Company; and —China Jiuyuan High-Tech Equipment Company. | For all items subject to the EAR. (See § 744.11 of the EAR). | Presumption of denial. | 85 FR [INSERT FR PAGE NUMBER 6/5/20].
| 64 Mianshan Road, Mianyang City, Sichuan, China; and No 169, West Section, Yihuan Road, Chengdu, China; and No. 11 Jindu Section Airport Road, Chengdu, China; and Rm. 302 Genfang International, No. A13, Huayuan Rd., Haidian, Beijing, China; and 8 Huayuan Road, Haidian District Beijing; and 6 Huayuan Road, Haidian District Beijing; and 1 Fenghao East Road, Haidian District, Beijing, China.
| * * * * * *
| Chinese Academy of Engineering Physics, a.k.a., the following seventeen aliases: —Ninth Academy; —Southwest Computing Center; —Southwest Institute of Applied Electronics; —Southwest Institute of Chemical Materials; —Southwest Institute of Electronic Engineering; —Southwest Institute of Environmental Testing; —Southwest Institute of Explosives and Chemical Engineering; —Southwest Institute of Fluid Physics; —Southwest Institute of General Designing and Assembly; —Southwest Institute of Machining Technology; —Southwest Institute of Materials; —Southwest Institute of Nuclear Physics and Chemistry (a.k.a., China Academy of Engineering Physics (CAEP)'s 902 Institute); —Southwest Institute of Research and Applications of Special Materials Factory; | For all items subject to the EAR. (See § 744.11 of the EAR). | Presumption of denial. | 62 FR 35334, 6/30/97. 66 FR 24266, 5/14/01. 75 FR 78883, 12/17/10. 76 FR 21628, 4/18/11. 76 FR 50407, 8/15/11. 77 FR 58006, 9/19/12. 85 FR [INSERT FR PAGE NUMBER 6/5/20].
| —Southwest Institute of Structural Mechanics; (all of preceding located in or near Mianyang, Sichuan Province) —The High Power Laser Laboratory, Shanghai; —The Institute of Applied Physics and Computational Mathematics, Beijing. 901 Institute (P.O. Box 523 Chengdu, 610003) and 64 Mianshan Road, Mianyang, Sichuan, China; and 6 Huayuan Road, Haidian District, Beijing, China; and; 1 Fenghao East Road, Haidian District, Beijing, China.
| * * * * * *
| Harbin Chuangyue Technology Co. Ltd., Room 10l, Building 221, No. 8 Campus Street, Nangang District, Harbin, Heilongjiang, China; and Room 0103, 40 Nursery Street, Nangang District. Harbin, China. | For all items subject to the EAR. (See § 744.11 of the EAR). | Presumption of denial. | 85 FR [INSERT FR PAGE NUMBER 6/5/20].
| Harbin Engineering University, No. 145 South Tongda Street, Harbin, Heilongjiang Province, China 150001. | For all items subject to the EAR. (See § 744.11 of the EAR). | Presumption of denial. | 85 FR [INSERT FR PAGE NUMBER 6/5/20].
| Harbin Institute of Technology, No. 92 Xidazhi Street, Nangang District, Harbin, Heilongjiang, China; and No. 92 West Dazhi Street, Nangang District, Harbin, Heilongjiang, China; and No. 2 West Wenhua Road, Weihai, Shandong, China; and Pingshan 1st Road, Shenzhen, Guangdong, China. | For all items subject to the EAR. (See § 744.11 of the EAR). | Presumption of denial. | 85 FR [INSERT FR PAGE NUMBER 6/5/20].
| Harbin Yun Li Da Technology and Development Co., Ltd., Building 7, No. 92 West Dazhi Street, Nangang District, Harbin, Heilongjiang, China; and Room 1, Building 2, No. 509 Pioneer Road, Nangang District, Harbin, Heilongjiang, China; and Room 1, Building 2, No. 509 Xianfeng Road, Nangang District, Harbin, Heilongjiang, China. | For all items subject to the EAR. (See § 744.11 of the EAR). | Presumption of denial. | 85 FR [INSERT FR PAGE NUMBER 6/5/20].
| * * * * * *
| JCN (HK) Technology Co., Ltd., Room 8D Block A, Guanghao International Center, Meilong Road, Longhua District, Shenzhen, Guangdong, China; and Unit 1516 Block B, Guanghao International Center, Meilong Road, Longhua District, Shenzhen, Guangdong, China. (See alternate address in Hong Kong). | For all items subject to the EAR. (See § 744.11 of the EAR). | Presumption of denial. | 85 FR [INSERT FR PAGE NUMBER 6/5/20].
| * * * * * *
| Kunhai (Yanjiao) Innovation Research Institute, a.k.a., the following two aliases: —Kunhai Academy for Innovative Research and Data Technologies Co.; and —Kunhai Innovation Engineering Research Institute. 17th Floor, Block A, Building 5, Zhongguancun National Defense Science and Technology Park, Haidian District, Beijing, China. | For all items subject to the EAR. (See § 744.11 of the EAR). | Presumption of denial. | 85 FR [INSERT FR PAGE NUMBER 6/5/20].
| * * * * * *
| Peac Institute of Multiscale Science, a.k.a., the following two aliases: —Peak Multiscale Science Institute; and —Peak Multi-Scale Scientific Research Institute. 111, 1st Section, Northern 2nd Ring Road, Chengdu, China. | For all items subject to the EAR. (See § 744.11 of the EAR). | Presumption of denial. | 85 FR [INSERT FR PAGE NUMBER 6/5/20].
| * * * * * *
| Qihoo 360 Technology Company, No. 6 Jiuxianqiao Rd., Building No. 2, 3/F, Chaoyang District, Beijing, China; and No. 188-218 Shuangbin Road, Qingpu District, Shanghai 200001, China. | For all items subject to the EAR. (See § 744.11 of the EAR). | Presumption of denial. | 85 FR [INSERT FR PAGE NUMBER 6/5/20].
| * * * * * *
| Shanghai Nova Instruments Co., Ltd., a.k.a., the following four aliases: —Shanghai Weiyi Electromechanical Equipment Co.; —Shanghai Weiyi Mechanical and Electrical Equipment Co., Ltd.; —Shanghai Weiyi Measurement and Control Technology Co., Ltd.; and —Nova Instruments. Rm. 408 Bldg. 3 No 911-11 Hulan Rd., Boashan District, Shanghai, China. | For all items subject to the EAR. (See § 744.11 of the EAR). | Presumption of denial. | 85 FR [INSERT FR PAGE NUMBER 6/5/20].
| * * * * * *
| Sichuan Dingcheng Material Trade Co., Ltd., No. 64 Mianshan Road, Mianyang City, Sichuan, China. | For all items subject to the EAR. (See § 744.11 of the EAR). | Presumption of denial. | 85 FR [INSERT FR PAGE NUMBER 6/5/20].
| Sichuan Haitian New Technology Group Co., Ltd., a.k.a., the following two aliases: —Haitian Group; and — Sichuan Haitian Hi-Tech Group. 64 Mianshan Road, Mianyang City, Sichuan, China. | For all items subject to the EAR. (See § 744.11 of the EAR). | Presumption of denial. | 85 FR [INSERT FR PAGE NUMBER 6/5/20].
| * * * * * *
| Sichuan Zhonghe Import and Export Trade Co., Ltd., Building 26, No. 169-185, West Third Section, First Ring Road, Jinniu District, Chengdu, China; and No 169, West Section, Yihuan Road, Chengdu, China. | For all items subject to the EAR. (See § 744.11 of the EAR). | Presumption of denial. | 85 FR [INSERT FR PAGE NUMBER 6/5/20].
| * * * * * *
| Skyeye Laser Technology Limited, a.k.a., the following one alias: —Mianyang Tianyan Laser Technology, 237 Chuangye Road Zhongduan, Mianyang, Sichuan, China. | For all items subject to the EAR. (See § 744.11 of the EAR). | Presumption of denial. | 85 FR [INSERT FR PAGE NUMBER 6/5/20].
| * * * * * *
| Zhu Jiejin, a.k.a., the following one alias: —Anna Zhu. Rm 408 Bldg. 3 No 911-11 Hulan Rd., Boashan District, Shanghai, China. | For all items subject to the EAR. (See § 744.11 of the EAR). | Presumption of denial. | 85 FR [INSERT FR PAGE NUMBER 6/5/20].
| * * * * * *
* * * * * * *
HONG KONG | * * * * * *
| Cloudminds (Hong Kong) Limited, 10/F Massmutual Twr 33, Lockhart Rd, Wan Chai, Hong Kong. | For all items subject to the EAR. (See § 744.11 of the EAR). | Presumption of denial. | 85 FR [INSERT FR PAGE NUMBER 6/5/20].
| * * * * * *
| JCN (HK) Technology Co., Ltd., Rm. 502, Arion Centre, 2-12 Queen's Rd. West, Hong Kong. (See alternate addresses in China). | For all items subject to the EAR. (See § 744.11 of the EAR). | Presumption of denial. | 85 FR [INSERT FR PAGE NUMBER 6/5/20].
| * * * * * *
| K Logistics (China) Limited, a.k.a., the following one alias: —K Logistics Hong Kong. Unit A, 4/F., China Fen Hin Building, No. 5 Cheung Yue St., Kowloon, Hong Kong. | For all items subject to the EAR. (See § 744.11 of the EAR). | Presumption of denial. | 85 FR [INSERT FR PAGE NUMBER 6/5/20].
| * * * * * *
* * * * * * *
UNITED KINGDOM | * * * * * *
| Cloudminds Inc., C/O Maples Corporate Services Limited Ugland House, South Church Street, George Town, Grand Cayman KY1-1104, Cayman Islands. | For all items subject to the EAR. (See § 744.11 of the EAR). | Presumption of denial. | 85 FR [INSERT FR PAGE NUMBER 6/5/20].
| Qihoo 360 Technology Co. Ltd., P.O. Box 309 George Town; and C/O Maples Corporate Services Limited Ugland House, South Church Street, George Town, Grand Cayman KY1-1104, Cayman Islands. | For all items subject to the EAR. (See § 744.11 of the EAR). | Presumption of denial. | 85 FR [INSERT FR PAGE NUMBER 6/5/20].
| * * * * * *
* * * * * * *

Dated: May 15, 2020.
Wilbur Ross,
Secretary, U.S. Department of Commerce.

[FR Doc. 2020-10869 Filed 6-3-20; 11:15 am]

BILLING CODE 3510-33-P